DEPARTMENT OF COMMERCE

International Trade Administration

[Application No. 05-2A001]

Export Trade Certificate of Review

ACTION: Notice of relinquishment of the Export Trade Certificate of Review for Central America Poultry Export Quota, Inc. (“CA-PEQ”), Application No. 05-2A001.

SUMMARY: The Secretary of Commerce, through the Office of Trade and Economic Analysis (“OTEA”) of the International Trade Administration, has received notice of the relinquishing of an Export Trade Certificate of Review (“Certificate”).

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4011-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. Pursuant to 15 CFR 325.15, a Certificate holder may relinquish a Certificate at any time through written notice to the Secretary. The Certificate will cease to be effective on the day the Secretary receives the notice.

Summary of Action

On December 5, 2023, CA-PEQ relinquished its Certificate (Application No. 05-2A001) pursuant to 15 CFR 325.15. This publication serves as public notice that the Certificate was relinquished and ceased to be effective on December 5, 2023.

Dated: January 3, 2024.
Joseph Flynn,
Director, Office of Trade and Economic Analysis, International Trade Administration, U.S. Department of Commerce.

[FR Doc. 2024-00140 Filed 1-5-24; 8:45 am]

BILLING CODE 3510-DR-P